DEPARTMENT OF HEALTH AND HUMAN SERVICES

National Institutes of Health

Center for Scientific Review; Cancellation of Meeting

Notice is hereby given of the cancellation of the Center for Scientific Review Special Emphasis Panel, October 1, 2009, 8 a.m. to October 2, 2009, 2:00 p.m., Bethesda Marriott, 5151 Pooks Hill Road, Bethesda, MD 20814 which was published in the Federal Register on August 13, 2009, 74 FR 40823-40824.

The meeting was cancelled due to administration problems.

Dated: August 20, 2009.
Jennifer Spaeth,
Director, Office of Federal Advisory Committee Policy.

[FR Doc. E9-20631 Filed 8-26-09; 8:45 am]

BILLING CODE 4140-01-P